DEPARTMENT OF HEALTH AND HUMAN SERVICES

Centers for Medicare & Medicaid Services

[Document Identifier: CMS-R-262, CMS-R-254, CMS-1450, CMS-10146, CMS-10147, CMS-10154, and CMS-10160]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Plan Benefit Package (PBP) and Formulary Submission for Medicare Advantage (MA) Plans and Prescription Drug Plans (PDPs); Form No.: CMS-R-262 (OMB # 0938-0763); Use: Under the Medicare Modernization Act (MMA), Medicare Advantage (MA) and Prescription Drug Plan (PDP) organizations are required to submit plan benefit package information to CMS for approval. Organizations will provide this information through the submission of the formulary and the PBP software; Frequency: On occasion, annually and other (as required by new legislation); Affected Public: Business or other for-profit and Not-for-profit institutions; Number of Respondents: 470; Total Annual Responses: 2,092; Total Annual Hours: 5,546.

2. Type of Information Collection Request: Revision of a currently approved collection; Title of Information Collection: National Medicare Education Program (NMEP); Form No.: CMS-R-254 (OMB # 0938-0738); Use: The NMEP was developed to inform people with Medicare, their family members, and other interested parties about their Medicare options. The Medicare Modernization Act of 2003 expanded the program to include among other things, a new Prescription Drug Benefit; therefore, this package has been revised to include this information. The NMEP employs numerous communication channels to educate people with Medicare and help them make more informed decisions concerning the Medicare program benefits; health plan choices; supplemental health insurance; rights, responsibilities, and protections; and preventive health services. As part of the NMEP, CMS must provide information to this population about the Medicare program and their Health Plan options, as well as information about the new prescription drug coverage to help them choose the option that is right for them. This survey seeks to assess the awareness, knowledge, understanding and experiences of people with Medicare regarding the Medicare program overall and these new initiatives; Frequency: On occasion; Affected Public: Individuals or Households; Number of Respondents: 5,700; Total Annual Responses: 5,700; Total Annual Hours: 1,425.

3. Type of Information Collection Request: Extension of a currently approved collection; Title of Information Collection: Medicare Uniform Institutional Provider Bill and Supporting Regulations in 42 CFR 424.5; Form No.: CMS-1450 (OMB # 0938-0279); Use: Section 42 CFR 424.5(a)(5) requires providers of services to submit claims prior to Medicare reimbursement. Charges are coded by revenue codes. The bill specifies diagnoses according to the International Classification of Diseases, Ninth Edition (ICD-9-CM) code. Inpatient procedures are identified by ICD-9-CM codes, and outpatient procedures are described using the Healthcare Common Procedure Coding System (HCPCS). These are standard systems of identification for all major health insurance claims payers. Submission of information on the CMS-1450 permits Medicare intermediaries to receive consistent data for proper payment; Frequency: On occasion; Affected Public: Not-for-profit institutions, Business or other for profit; Number of Respondents: 51,629; Total Annual Responses: 174,461,278; Total Annual Hours: 1,997,581.

4. Type of Information Collection Request: New Collection; Title of Information Collection: Notice of Denial of Medicare Prescription Drug Coverage; Form No.: CMS-10146 (OMB # 0938-NEW); Use: Pursuant to 42 CFR 423.568(c), if a Part D plan denies drug coverage, in whole or in part, the Part D plan must give the enrollee written notice of the coverage determination; Frequency: Other: Distribution; Affected Public: Business or other for profit, Not-for-profit institutions; Individuals or Households and Federal Government; Number of Respondents: 450; Total Annual Responses: 1,056,000; Total Annual Hours: 528,000.

5. Type of Information Collection Request: New Collection; Title of Information Collection: Medicare Prescription Drug Coverage and Your Rights; Form No.: CMS-10147 (OMB # 0938-NEW); Use: Pursuant to 42 CFR 423.562(a)(3), a Part D plan sponsor must arrange with its network pharmacies to post or distribute notices informing enrollees to contact their plan to request a coverage determination or an exception if the enrollee disagrees with the information provided by the pharmacy; Frequency: Other: Distribution; Affected Public: Business or other for profit, Not-for-profit institutions; Individuals or Households and Federal Government; Number of Respondents: 41,000; Total Annual Responses: 35,000,000; Total Annual Hours: 583,333.

6. Type of Information Collection Request: New collection; Title of Information Collection: Physician Assessment of Hospital Quality Reports; Form No.: CMS-10154 (OMB # 0938-NEW); Use: This assessment will monitor the attitudes and behaviors of physicians as they relate to the concerns of their patients who have been exposed to hospital quality-of-care reports at CMS's Web site; Affected Public: Individuals or Households; Number of Respondents: 1730; Total Annual Responses: 1730; Total Annual Hours: 345.75.

7. Type of Information Collection Request: New collection; Title of Information Collection: The Personal Responsibility Survey; Form No.: CMS-10160 (OMB # 0938-NEW); Use: New focus on personalizing messages by relating health care choices with individual beliefs may help guide these educational efforts. The intent of this survey is to understand the role personal responsibility plays when people with Medicare make health care decisions; Affected Public: Individuals or Households; Number of Respondents: 1580; Total Annual Responses: 1580; Total Annual Hours: 300.

To obtain copies of the supporting statement and any related forms for the proposed paperwork collections referenced above, access CMS' Web site address at http://www.cms.hhs.gov/regulations/pra/, or e-mail your request, including your address, phone number, OMB number, and CMS document identifier, to Paperwork@cms.hhs.gov, or call the Reports Clearance Office on (410) 786-1326.

Written comments and recommendations for the proposed information collections must be mailed within 60 days of this notice to the address below: CMS, Office of Strategic Operations and Regulatory Affairs, Division of Regulations Development, Attention: Melissa Musotto, PRA Analyst, Room C4-26-05, 7500 Security Boulevard, Baltimore, Maryland 21244-1850.

Dated: June 10, 2005.
Jimmy Wickliffe,
Reports Clearance Officer, Office of Strategic Operations and Regulatory Affairs.

[FR Doc. 05-11931 Filed 6-16-05; 8:45 am]

BILLING CODE 4120-01-P